DEPARTMENT OF THE INTERIOR

Bureau of Indian Affairs

Notice of Additional Public Scoping for the Environmental Impact Statement Underway for the Proposed Cordova Oil Spill Response Facility (Formerly Shepard Point Oil Spill Response Facility and Access Road)

AGENCY: Bureau of Indian Affairs, Interior.

ACTION: Notice of additional public scoping.

SUMMARY: This notice advises the public that the Bureau of Indian Affairs (BIA) is extending the scoping period to gather information necessary for preparing an Environmental Impact Statement (EIS). The EIS will analyze the proposed enhancement of oil spill response capabilities in southeast Prince William Sound (PWS) by means of constructing a regional oil spill response facility in the Cordova area, and a deepwater dock with road connection to a regional airport.

The purpose of scoping is to obtain suggestions and information from other agencies and the public on the scope of issues to be addressed in the EIS. Comments and participation in this scoping process are encouraged.

DATES: The meeting dates are:

1. March 2, 2004, Open House from 5:30 p.m. to 7 p.m., Formal Testimony from 7 to 9 p.m., Anchorage, Alaska. The meeting will be held at the BLM Campbell Tract Facility, 6881 Abbott Loop Road, Anchorage, Alaska.

2. March 4, 2004, Open House from 5:30 p.m. to 7 p.m., Formal Testimony from 7 to 9 p.m., Cordova, Alaska. The meeting will be held at the Mount Eccles Elementary School Cafeteria, 201 Adams Street, Cordova, Alaska.

Meeting times and specific locations will be published in the local papers.

Comments on the proposed project must be postmarked by March 19, 2004.

ADDRESSES: Mail written comments to ATTN: Cordova Response Facility EIS, URS Corporation, 2700 Gambell Street, Suite 200, Anchorage, AK, 99507. You may also post comments at the Web site: http://www.cordovaresponsefacility.com, or via e-mail: cordovarf@urscorp.com.

FOR FURTHER INFORMATION CONTACT: Kristin K'eit, Environmental Scientist, (907) 586-7423, or Mark Boatwright, Environmental Protection Specialist, (907) 586-7301, Bureau of Indian Affairs, Alaska Region, PO Box 25520, Juneau, AK 99802-5520.

SUPPLEMENTARY INFORMATION: In March 1989, the T/V Exxon Valdez went aground on Bligh Reef in Prince William Sound, in south central Alaska, spilling 10.8 million gallons of oil, costing over $335 million for cleanup and for studies of damages and resource recovery plans. Oil spill response facilities at that time were poorly located with limited capabilities. Consequently, the Oil Pollution Act of 1990 required pre-positioned oil spill containment and removal equipment in communities and other strategic locations within Prince William Sound. Further, on November 25, 1992 a civil lawsuit was settled in the “Agreement and Consent Decree in re: The EXXON VALDEZ” (the Agreement) between the State of Alaska and the U.S. Government, and the Alyeska Pipeline Service Company and the “Alyeska Owner Companies.” Under the Agreement, funding was specifically set aside in the Alyeska Settlement Fund (the Fund) for construction of oil spill response storage facilities and docks in three PWS communities: Chenega Bay, Tatitlek and Cordova. Facilities have since been constructed in Tatitlek and Chenega Bay. Funding was appropriated from the Fund through Alaska State Legislation, CCS SB 165, Chapter No. 41, June 1, 1993. A Memorandum of Agreement between the State of Alaska and the BIA specifies that the BIA is responsible for the development of the project, including acting as the Lead Agency for National Environmental Policy Act compliance in connection with the proposed action.

The proposed action is to enhance the oil spill response capabilities in the southeast area of Prince William Sound (PWS) by developing an oil spill response facility in the Cordova area. Proposed project components consist of a deepwater dock with adequate depth for large oil spill response vessels loaded with heavy equipment, a staging area contiguous to the dock for staging oil spill recovery equipment, and an access road or upgrades to the existing transportation system sufficient for linking the facility to the Cordova Airport, a PWS regional airport facility. This will allow efficient transport of out-of-region supplies and equipment through the Cordova airport to a wide variety of vessels operating in PWS. While economic development is not a direct purpose of the proposed action, the proposed action will have economic and transportation effects that will be assessed in the environmental impact statement.

The first scoping period for this project was initiated in October 2002 under the project title “Shepard Point Oil Spill Response Facility and Access Road.” The project is now titled the “Cordova Oil Spill Response Facility Project.” The project title was revised to maintain consistency with other descriptions of the project and to accurately reflect that a reasonable range of alternatives will be analyzed in the EIS, in compliance with the National Environmental Policy Act. All public comments received during the October 2002 scoping period will be evaluated with equal consideration as comments received during this extended period.

Authority: This notice is published in accordance with section 1501.7, Council on Environmental Quality Regulations (40 CFR parts 1500 through 1508) implementing the procedural requirements of the National Environmental Policy Act of 1969, as amended (42 U.S.C. 4321 et seq.) and the Department of the Interior Manual (516 DM 1.6) and is within the exercise of authority delegated to the Assistant Secretary—Indian Affairs by 209 DM 8.1.

Dated: February 4, 2004.
Dave Anderson,
Assistant Secretary—Indian Affairs.

[FR Doc. 04-3150 Filed 2-12-04; 8:45 am]

BILLING CODE 4310-W7-P